ENVIRONMENTAL PROTECTION AGENCY

[FRL-10306-01-OMS]

National and Governmental Advisory Committees to the U.S. Representative to the Commission for Environmental Cooperation (CEC)

AGENCY: Environmental Protection Agency (EPA).

ACTION: Notice of meeting.

SUMMARY: Under the Federal Advisory Committee Act, the Environmental Protection Agency (EPA) gives notice of a public meeting of the National Advisory Committee (NAC) and the Government Advisory Committee (GAC). The NAC and GAC provide advice to the EPA Administrator on a broad range of environmental policy, technology, and management issues. NAC and GAC members represent academia, business/industry, non-governmental organizations, and state, local and tribal governments. The purpose of this meeting is to provide advice to the EPA Administrator on ways to strengthen community resilience to extreme events and other matters related to the Commission for Environmental Cooperation.

DATES: December 9, 2022, from 12 p.m.-4 p.m. (EST). A copy of the agenda will be posted at www.epa.gov/faca/nac-gac.

The meeting will be conducted virtually and is open to the public with limited access available on a first-come, first-served basis. Members of the public wishing to participate in the video/teleconference, should contact Clifton Townsend at townsend.clifton@epa.gov by December 1st. Requests to make oral comments or submit written public comments to NAC and GAC should also be directed to Clifton Townsend at least five business days prior to the video/teleconference. Requests for accessibility and/or accommodations for individuals with disabilities should be directed to Clifton Townsend at the email address listed above. To ensure adequate time for processing, please make requests for accommodations at least 10 days prior to the video/teleconference.

FOR FURTHER INFORMATION CONTACT: Clifton Townsend in the Federal Advisory Committee Management Division in the Office of Mission Support (1601M), Environmental Protection Agency, 1200 Pennsylvania Avenue NW, Washington, DC 20460; telephone number: (202) 564-1576; email address: townsend.clifton@epa.gov.

SUPPLEMENTARY INFORMATION: The NAC and GAC are Presidential federal advisory committees that advise the U.S. Government via the EPA Administrator on trade and environment matters related to the Environmental Cooperation Agreement (ECA), which entered into force at the same time as the United States-Mexico Canada Agreement (USMCA). The NAC and GAC were created in 1994 and operate in accordance with the Federal Advisory Committee Act. Establishment of the committees is authorized under article 11 of the ECA.

Dated: October 31, 2022.
Clifton Townsend,
Environmental Scientist.

[FR Doc. 2022-24093 Filed 11-3-22; 8:45 am]

BILLING CODE 6560-50-P